NUCLEAR REGULATORY COMMISSION

[Docket No. 030-05222]

Notice of Availability of Environmental Assessment and Finding of No Significant Impact for License Amendment for E.R. Squibb & Sons, Inc.'s Facility in New Brunswick, NJ

AGENCY: Nuclear Regulatory Commission.

ACTION: Notice of availability of environmental assessment and finding of no significant impact.

FOR FURTHER INFORMATION CONTACT: Donna M. Janda, Nuclear Materials Safety Branch 2, Division of Nuclear Materials Safety, Region I, 475 Allendale Road, King of Prussia, Pennsylvania 19406, telephone (610) 337-5371, fax (610) 337-5269; or by e-mail: dmj@nrc.gov.

SUPPLEMENTARY INFORMATION:

I. Introduction

The U.S. Nuclear Regulatory Commission (NRC) is considering the issuance of a license amendment to E.R. Squibb & Sons, Inc. for Materials License No. 29-00139-02, to authorize release of Buildings 122 and 124 and associated outdoor areas at its facility in New Brunswick, New Jersey for unrestricted use and has prepared an Environmental Assessment (EA) in support of this action in accordance with the requirements of 10 CFR part 51. Based on the EA, the NRC has concluded that a Finding of No Significant Impact (FONSI) is appropriate. The amendment will be issued following the publication of this Notice.

II. EA Summary

The purpose of the proposed action is to allow for the release of Buildings 122 and 124 and associated outdoor areas at the licensee's New Brunswick, New Jersey facility for unrestricted use. E.R. Squibb & Sons, Inc. was authorized by NRC from 1964 to use radioactive materials for research and development and manufacturing and distribution purposes at the site. On October 16, 2003, E.R. Squibb & Sons, Inc. requested that NRC release Buildings 122 and 124 and associated outdoor areas at the New Brunswick facility for unrestricted use. E.R. Squibb & Sons, Inc. has conducted surveys of the buildings and associated outdoor areas and determined that the buildings and outdoor areas meet the license termination criteria in subpart E of 10 CFR part 20. The NRC staff has prepared an EA in support of the proposed license amendment.

III. Finding of No Significant Impact

The staff has prepared the EA (summarized above) in support of the proposed license amendment to release the buildings for unrestricted use. The NRC staff has evaluated E.R. Squibb & Sons, Inc.'s request and the results of the surveys and has concluded that the completed action complies with the criteria in subpart E of 10 CFR part 20. The staff has found that the environmental impacts from the proposed action are bounded by the impacts evaluated by the “Generic Environmental Impact Statement in Support of Rulemaking on Radiological Criteria for License Termination of NRC-Licensed Facilities” (NUREG-1496). On the basis of the EA, the NRC has concluded that the environmental impacts from the proposed action are expected to be insignificant and has determined not to prepare an environmental impact statement for the proposed action.

IV. Further Information

The EA and the documents related to this proposed action, including the application for the license amendment and supporting documentation, are available for inspection at NRC's Public Electronic Reading Room at http://www.nrc.gov/reading-rm/adams.html (ADAMS Accession No. ML040830086). These documents are also available for inspection and copying for a fee at the Region I Office, 475 Allendale Road, King of Prussia, Pennsylvania 19406. Persons who do not have access to ADAMS should contact the NRC PDR Reference staff by telephone at (800) 397-4209 or (301) 415-4737, or by e-mail to pdr@nrc.gov.

Dated at King of Prussia, Pennsylvania, this 23rd day of March, 2004.
For the Nuclear Regulatory Commission.
John D. Kinneman,
Chief, Nuclear Materials Safety Branch 2, Division of Nuclear Materials Safety, Region I.

[FR Doc. 04-7011 Filed 3-29-04; 8:45 am]

BILLING CODE 7590-01-P